FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 2, 2007.

A. Federal Reserve Bank of Chicago (Burl Thornton, Assistant Vice President) 230 South LaSalle Street, Chicago, Illinois 60690-1414:

1. Stuart B. Drake; Diana L. Drake; Martin B. Drake II; Clayton J. Drake, all of Farmer City, Illinois; Stephanie S. Drake, Champaign, Illinois; Stanley L. Drake, Sunrise Beach, Missouri; Stephen P. Drake, Champaign, Illinois, individually and as custodian under the Illinois Uniform Transfers to Minors Act for each of Clayton J. Drake; Nicole L. Drake; and Noah S. Drake, all of Farmer City, Illinois; and as trustee of the Martin Bogarte Drake II Irrevocable Trust; the Clayton James Drake Irrevocable Trust; the Nicole Lynn Drake Irrevocable Trust; the Noah Stuart Drake Irrevocable Trust; and the Richard K. Drake Irrevocable GST Trust; Patricia R. Drake, Champaign, Illinois; George E. Drake; Elinor J. Drake; Allen C. Drake, all of El Paso, Illinois, individually and as trustee of the George Drake Family Trust; Fred L. Drake; Arthur M. Drake, both of Bloomington, Illinois; Marcia J. Dudley, El Paso, Illinois; the Richard K. Drake Irrevocable GST Trust; the Martin Bogarte Drake II Irrevocable Trust; the Clayton James Drake Irrevocable Trust; the Nicole Lynn Drake Irrevocable Trust; the Noah Stuart Drake Irrevocable Trust, all of Farmer City, Illinois; the George Drake Family Trust, El Paso, Illinois; the Marylou Drake Inter-Vivos Revocable Trust; and Farmer City State Bank, both of Farmer City, Illinois, as trustee of the Marylou Drake Inter-Vivos Revocable Trust; to retain voting shares of Lincoln S.B. Corp., and thereby indirectly retain voting shares of State Bank of Lincoln, both of Lincoln, Illinois.

Board of Governors of the Federal Reserve System, September 12, 2007.
Robert deV. Frierson,
Deputy Secretary of the Board.

[FR Doc. E7-18283 Filed 9-17-07; 8:45 am]

BILLING CODE 6210-01-S